DEPARTMENT OF COMMERCE

National Oceanic and Atmospheric Administration

50 CFR Part 648

[Docket No. 150105004-5355-01]

RIN 0648-XE073

Fisheries of the Northeastern United States; Northeast Multispecies Fishery; Trimester Total Allowable Catch Area Closure for the Common Pool Fishery

AGENCY: National Marine Fisheries Service (NMFS), National Oceanic and Atmospheric Administration (NOAA), Commerce.

ACTION: Temporary rule; area closure.

SUMMARY: This action closes the Southern New England/Mid-Atlantic yellowtail flounder Trimester Total Allowable Catch Area to Northeast multispecies common pool trawl and gillnet vessels for the remainder of Trimester 1, through August 31, 2015. The closure is required by regulation because the common pool fishery has caught over 90 percent of its Trimester 1 quota for Southern New England/Mid-Atlantic yellowtail flounder. This closure is intended to prevent the overharvest of the common pool's allocation for this stock.

DATES: This action is effective July 29, 2015, through August 31, 2015.

FOR FURTHER INFORMATION CONTACT: Liz Sullivan, Fishery Management Specialist, (978) 282-8493.

SUPPLEMENTARY INFORMATION: Federal regulations at § 648.82(n)(2)(ii) require the Regional Administrator to close a common pool Trimester Total Allowable Catch (TAC) Area for a stock when 90 percent of the Trimester TAC is projected to be caught. The closure applies to all common pool vessels fishing with gear capable of catching that stock for the remainder of the trimester.

We have determined that 95 percent of the Trimester 1 TAC was caught as of July 21, 2015. The fishing year 2015 common pool sub-annual catch limit (sub-ACL) for Southern New England/Mid-Atlantic (SNE/MA) yellowtail flounder is 114.5 mt and the Trimester 1 TAC is 24 mt.

Effective July 29, 2015, the SNE/MA yellowtail flounder Trimester TAC Area is closed for the remainder of Trimester 1, through August 31, 2015, to all common pool vessels fishing with trawl and gillnet gear. The SNE/MA yellowtail flounder Trimester TAC Area consists of statistical areas 537, 538, 539, and 613. The area reopens at the beginning of Trimester 2 on September 1, 2015.

If a vessel declared its trip through the VMS or the interactive voice response system, and crossed the VMS demarcation line prior to July 29, 2015, it may complete its trip within the Trimester TAC Area.

Any overage of a Trimester TAC is deducted from the Trimester 3 TAC, and any overage of the common pool's sub-ACL at the end of the fishing year is deducted from the common pool's sub-ACL for fishing year 2016. Any uncaught portion of the Trimester 1 and Trimester 2 TACs is carried over into the next trimester. However, any uncaught portion of the common pool's sub-ACL may not be carried over into the following fishing year.

Weekly quota monitoring reports for the common pool fishery are on our Web site at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations require the Regional Administrator to close a trimester TAC area to the common pool fishery when 90 percent of the Trimester TAC for a stock has been caught. Updated catch information only recently became available indicating that the common pool fishery has caught over 90 percent of its Trimester 1 TAC for SNE/MA yellowtail flounder as of July 21, 2015. The time necessary to provide for prior notice and comment, and a 30-day delay in effectiveness, prevents the immediate closure of the SNE/MA yellowtail flounder Trimester 1 TAC Area. This increases the likelihood that the common pool fishery exceeds its quota of SNE/MA yellowtail flounder to the detriment of this stock, which could undermine management objectives of the Northeast Multispecies Fishery Management Plan (FMP). Additionally, an overage of the common pool quota could cause negative economic impacts to the common pool fishery as a result of overage paybacks in a future trimester or fishing year.

Authority: 16 U.S.C. 1801 et seq.

Dated: July 24, 2015.
Emily H. Menashes,
Acting Director, Office of Sustainable Fisheries, National Marine Fisheries Service.

[FR Doc. 2015-18586 Filed 7-28-15; 8:45 am]

BILLING CODE 3510-22-P